TENNESSEE VALLEY AUTHORITY

Adoption of Final Environmental Impact Statement

AGENCY: Tennessee Valley Authority.

ACTION: Adoption of Final Environmental Impact Statement.

SUMMARY: In accordance with Tennessee Valley Authority (TVA) procedures implementing the National Environmental Policy Act (NEPA) and consistent with 40 CFR 1506.3, TVA has decided to adopt a Final Environmental Impact Statement (FEIS) issued by the U.S. Department of Energy (DOE), Office of Fissile Materials Disposition in June 1996. This FEIS is titled Disposition of Surplus Highly Enriched Uranium.” Final Environmental Impact Statement Notice of the availability of the FEIS was published by the U. S. Environmental Protection Agency in the Federal Register on June 28, 1996. A separate DOE Notice of Availability, summarizing the Highly Enriched Uranium Final EIS appeared in the Federal Register that same day. TVA has determined that the FEIS meets the standards for an adequate FEIS and can be adopted.

DATES: Submit comments no later than March 19, 2001, to Bruce Yeager, Senior NEPA Specialist, at the address listed below.

ADDRESSES: The FEIS can be inspected at the following locations:

TVA Corporate Library, East Tower Plaza, 400 West Summit Hill Drive, Knoxville, Tennessee 37902.

TVA Corporate Library, Signal Place Building (North), 1st floor, Quadrant “A”, 1101 Market Street, Chattanooga, Tennessee 37402.

Chattanooga-Hamilton County Bicentennial Library, 1001 Broad Street, Chattanooga, Tennessee 37402.

Athens-Limestone Public Library, 405 E. South St., Athens, Alabama 35611.

Unicoi County Public Library, 201 Nolichucky Ave., Erwin, Tennessee 37650.

Richland Public Library, 955 Northgate Dr., Richland, Washington 99352.

Aiken County Public Library, 314 Chesterfield St. SW, Aiken, South Carolina 29801.

Oak Ridge Public Library, 1401 Oak Ridge Turnpike, Oak Ridge, Tennessee 32093.

The complete FEIS and Summary are also available in electronic format on the U. S. Department of Energy NEPA website at http://www.tis.eh.doe.gov/nepa.

FOR FURTHER INFORMATION CONTACT: Bruce Yeager, Senior NEPA Specialist, Tennessee Valley Authority, 400 West Summit Hill Drive, Mailstop WT 8C, Knoxville, Tennessee 37902, (865) 632-8051 or e-mail at blyeager@tva.gov.

SUPPLEMENTARY INFORMATION: In June 1996, the Department of Energy, Office of Fissile Materials Disposition released an FEIS titled “Disposition of Surplus Highly-Enriched Uranium.” This FEIS assessed the environmental impacts that may result from the disposition of U.S. origin weapons-usable highly enriched uranium (HEU) that was or may be declared surplus to national defense or defense-related program needs. In addition to the No Action Alternative, this EIS assessed four alternatives that would aid U.S. non-proliferation policies. These alternatives would eliminate the weapons usability of HEU by blending it down with natural uranium, low enriched uranium (LEU) or depleted uranium to create LEU to be used either as commercial reactor fuel feedstock or disposed of as low-level radioactive waste. The EIS assessed the disposition of approximately 200 metric tons of surplus HEU.

The potential blending sites considered in the EIS were: DOE's Y-12 Plant at Oak Ridge, TN; DOE's Savannah River Site in Aiken, SC; the Babcock and Wilcox Naval Nuclear Fuel Division Facility in Lynchburg, Virginia; and the Nuclear Fuel Services Fuel Fabrication Plant in Erwin, TN. Several domestic commercial nuclear fuel fabrication plants, including Siemens Nuclear Power's plant in Richland, Washington, were identified as potential destinations for the LEU produced. Evaluations of impacts at the potential blending sites on site infrastructure, water resources, air quality, noise, socioeconomic resources, waste management, public and occupational health and environmental justice were included in the EIS. The impact of intersite transportation of nuclear and hazardous materials was also assessed. The preferred alternative was blending down as much of the HEU to LEU as possible while gradually selling the commercially usable LEU for use as reactor fuel. DOE plans to continue the activity over an approximately 15 to 20 year period.

The DOE issued a HEU Draft EIS on October 27, 1995 and held open the formal public comment period on this Draft EIS through January 12, 1996. In preparing the HEU Final EIS, DOE considered comments received via mail, fax, electronic bulletin board; transcribed messages from telephone; and recorded comments and concerns from interactive public meetings held in Knoxville, TN on November 14, 1995, and Augusta, Georgia on November 16, 1995. The Final EIS was released in June 1996, a Notice of Availability was published in the Federal Register on June 28, 1996 and a Record of Decision issued July 29, 1996.

The Tennessee Valley Authority proposes to take actions related to this same project. TVA proposes to enter into contracts with Framatome-Cogema and Siemens for fuel blending and fabrication services, as well as execute an Interagency Agreement with the DOE to obtain approximately 33 metric tons of HEU. These 33 metric tons of HEU are a portion of the 200 metric tons identified in the DOE EIS. The HEU for eventual use as blended down LEU fuel in TVA's Browns Ferry Nuclear Plant near Athens, Alabama, would originate from DOE's Y-12 Plant at Oak Ridge, Tennessee and the Savannah River Site in Aiken, South Carolina. Blending down and processing of the HEU to LEU would occur at the Nuclear Fuel Services (NFS) facility in Erwin, Tennessee and at DOE's Savannah River Site (SRS) in Aiken South Carolina. Commercial fuel fabrication would occur at Siemens Power Corporation (SPC) in Richland, Washington.

As a Federal agency, TVA must independently assess the environmental impacts of its actions in accordance with the National Environmental Policy Act (NEPA). In its regulations implementing NEPA, the Council on Environmental Quality (CEQ) strongly encourages agencies to reduce paperwork and duplication. One of the methods identified by CEQ to accomplish these goals is adopting the environmental documents prepared by other agencies, 40 CFR 1500.4(n). Under applicable regulations, TVA is allowed to adopt the Department of Energy FEIS as its own, since the actions covered by the DOE EIS and TVA's proposed actions are substantially the same.

The actions assessed in DOE's EIS relating to the blending down of HEU to LEU and the subsequent use of LEU as commercial reactor fuel, are also the actions that TVA seeks to carry out by entering into the necessary contracts and Interagency Agreement to obtain and use the fuel at TVA's Browns Ferry Nuclear Plant. TVA has carefully reviewed the EIS and has concluded that the EIS adequately assesses the environmental impacts associated with the blending down of HEU and use of the resulting LEU-derived commercial reactor fuel. The impacts of the technical areas and issues TVA evaluated were bounded by the assessment in DOE's EIS and did not constitute substantial changes to relevant environmental concerns. Accordingly, TVA has adopted the DOE FEIS, “Disposition of Surplus Highly Enriched Uranium Final Environmental Impact Statement,” and has determined that no supplement or additional environmental review is required to support TVA's proposed action. The Notice of Adoption also constitutes the Notice of Availability of the same EIS at locations previously identified under the section titled, “Addresses.”

Dated: February 7, 2001.
Kathryn J. Jackson,
Executive Vice President, River System Operations and Environment, Tennessee Valley Authority.

[FR Doc. 01-3693 Filed 2-13-01; 8:45 am]

BILLING CODE 8120-08-U